DEPARTMENT OF LABOR

Employment and Training Administration

[NAFTA-04603]

IEC Electronics Corporation, Edinburg, TX; (Including Temporary Workers), Amended Certification Regarding Eligibility To Apply for NAFTA-Transitional Adjustment Assistance

In accordance with section 250(A), subchapter D, chapter 2, title II, of the Trade Act of 1974 (19 U.S.C. 2273), the Department of Labor issued a Certification for NAFTA Transitional Adjustment Assistance on April 17, 2001, applicable to workers of IEC Electronics Corporation, Edinburg, Texas. The notice published in the Federal Register on May 9, 2001 (66 FR 23734).

At the request of the State agency, the Department reviewed the certification for workers of the subject firm. Information provided by the company shows that some employees at the subject firm plant were temporary workers from Manpower Temporary Services of Texas and Express Personnel Services, McAllen, Texas and Staff Force Personnel Services, Edinburg, Texas; the workers of these firms produce printed circuit boards at the Edinburg, Texas location of the subject firm.

Based on these findings, the Department is amending the certification to include temporary workers of Manpower Temporary Services of Texas and Express Personnel Services, McAllen, Texas and Staff Force Personnel Services, Edinburg, Texas who were engaged in the production of printed circuit boards at IEC Electronics Corporation, Edinburg, Texas.

The intent of the Department's certification is to include all workers of IEC Electronics Corporation, Edinburg, Texas adversely affected by a shift of production of printed circuit boards to Mexico.

The amended notice applicable to NAFTA-04603 is hereby issued as follows:

All workers of IEC Electronics Corporation, Edinburg, Texas, and temporary workers at Manpower Temporary Services of Texas and Express Personnel Services, McAllen, Texas, and Staff Force Personnel Services, Edinburg, Texas who were engaged in the production of printed circuit boards at IEC Electronics Corporation, Edinburg, Texas, who became totally or partially separated from employment on or after February 21, 2000, through April 17, 2003, are eligible to apply for NAFTA-TAA under section 250 of the Trade Act of 1974.

Signed at Washington, DC this 16th day of July, 2001.
Linda G. Poole,
Certifying Officer, Division of Trade Adjustment Assistance.

[FR Doc. 01-18620 Filed 7-25-01; 8:45 am]

BILLING CODE 4510-30-M